DEPARTMENT OF LABOR

Pension and Welfare Benefits Administration

29 CFR Part 2584

RIN 1210-AA79

Rules and Regulations for the Allocation of Fiduciary Responsibility, Federal Retirement Thrift Investment Board

Correction

In rule document 00-13250 beginning on page 34393 in the issue of Tuesday, May 30, 2000, make the following corrections:

1. On page 34393, in the second column, in the DATES section, four lines down, “July 29, 2000” should read “June 29, 2000”.

2. On page 34395, in the first column, 15 lines down, “March, 2000” should read “May, 2000”.

[FR Doc. C0-13250 Filed 6-2-00; 8:45 am]

BILLING CODE 1505-01-D CORRECTIONS

DEPARTMENT OF TRANSPORTATION

Federal Aviation Administration

14 CFR Parts 91 and 129

[Docket No. 29104; Amendment Nos. 91-264, 121-275, 125-33 & 129-28]

RIN 2120-AF81

Repair Assessment for Pressurized Fuselages

Correction

In rule document 00-10220 beginning on page 24108 in the issue of Tuesday, April 25, 2000, make the following corrections:

§91.410 [Corrected]

1. On page 24125, in the third column, in §91.410(l), in the third line, “27,000” should read “60,000”.

§129.32 [Corrected]

2. On page 24127, in the first column, in §129.32(l), in the third line, “60,00” should read “60,000”.

[FR Doc. C0-10220 Filed 6-2-00; 8:45 am]

BILLING CODE 1505-01-D